DEPARTMENT OF COMMERCE

International Trade Administration

United States Travel and Tourism Advisory Board: Meeting of the United States Travel and Tourism Advisory Board

AGENCY: International Trade Administration, U.S. Department of Commerce.

ACTION: Notice of an open meeting.

SUMMARY: The United States Travel and Tourism Advisory Board (Board) will hold an open meeting at the Department of Commerce on Friday, November 20, 2015. The Board was re-chartered in August 2015, to advise the Secretary of Commerce on matters relating to the U.S. travel and tourism industry.

The purpose of the meeting is for Board members to review and deliberate on recommendations developed by the BrandUSA subcommittee looking at a new vetting process for matching fund requests submitted by Brand USA as well as two recommendations by the Cultural and Natural Heritage subcommittee looking at recommendations of promoting domestic travel and arts funding. The final agenda will be posted on the Department of Commerce Web site for the Board at http://trade.gov/ttab, at least one week in advance of the meeting.

DATES: Friday, November 20, 2015, 10:00 a.m.-2:00 p.m. The deadline for members of the public to register, including requests to make comments during the meeting and for auxiliary aids, or to submit written comments for dissemination prior to the meeting, is 5 p.m. EDT on November 13, 2015.

ADDRESSES: The meeting will be held at the Department of Commerce. Requests to register (including to speak or for auxiliary aids) and any written comments should be submitted to: U.S. Travel and Tourism Advisory Board, U.S. Department of Commerce, Room 4043, 1401 Constitution Avenue NW., Washington, DC 20230, archana.sahgal@trade.gov. Members of the public are encouraged to submit registration requests and written comments via email to ensure timely receipt.

FOR FURTHER INFORMATION CONTACT: Archana Sahgal, the United States Travel and Tourism Advisory Board, Room 4043, 1401 Constitution Avenue NW., Washington, DC 20230, telephone: 202-482-1369, email: archana.sahgal@trade.gov.

SUPPLEMENTARY INFORMATION: Background: The Board advises the Secretary of Commerce on matters relating to the U.S. travel and tourism industry.

Public Participation: The meeting will be open to the public and will be accessible to people with disabilities. All guests are required to register in advance by the deadline identified under the DATES caption. Requests for auxiliary aids must be submitted by the registration deadline. Last minute requests will be accepted, but may be impossible to fill. There will be fifteen (15) minutes allotted for oral comments from members of the public joining the meeting. To accommodate as many speakers as possible, the time for public comments may be limited to three (3) minutes per person. Individuals wishing to reserve speaking time during the meeting must submit a request at the time of registration, as well as the name and address of the proposed speaker. If the number of registrants requesting to make statements is greater than can be reasonably accommodated during the meeting, the International Trade Administration may conduct a lottery to determine the speakers. Speakers are requested to submit a written copy of their prepared remarks by 5:00 p.m. on Friday, November 13, 2015, for inclusion in the meeting records and for circulation to the members of the Travel and Tourism Advisory Board.

In addition, any member of the public may submit pertinent written comments concerning the Board's affairs at any time before or after the meeting. Comments may be submitted to Archana Sahgal at the contact information indicated above. To be considered during the meeting, comments must be received no later than 5:00 p.m. EDT on November 13, 2015, to ensure transmission to the Board prior to the meeting. Comments received after that date and time will be distributed to the members but may not be considered on the call. Copies of Board meeting minutes will be available within 90 days of the meeting.

Dated: October 30, 2015.
Archana Sahgal,
Executive Secretary, United States Travel and Tourism Advisory Board.

[FR Doc. 2015-28111 Filed 11-3-15; 8:45 am]

BILLING CODE 3510-DR-P